GENERAL SERVICES ADMINISTRATION

[Notice-MG-2011-2; Docket No. 2011-0006; Sequence 21]

Office of Governmentwide Policy; Office of Federal High-Performance Green Buildings; the Green Building Advisory Committee Notification of Upcoming Public Advisory Meeting

AGENCY: Office of Governmentwide Policy, General Services Administration (GSA).

ACTION: Meeting notice.

SUMMARY: This notice provides the schedule and agenda for the first meeting of the Green Building Advisory Committee Meeting (the Committee). The meeting is open to the public and the site is accessible to individuals with disabilities.

DATES: Effective date: October 21, 2011.

Meeting date: The meeting will be held on Wednesday, November 9, 2011, starting at 1 p.m. Eastern time, and ending by 4:30 p.m.

FOR FURTHER INFORMATION CONTACT: Ken Sandler, Designated Federal Official, Office of Federal High-Performance Green Buildings, Office of Governmentwide Policy, General Services Administration, 1275 First Street, NE., Room 633D, Washington, DC 20417, telephone (202) 219-1121 (Note: This is not a toll-free number.)

Contact Ken Sandler at (202) 219-1121 to register to comment during the meeting's public comment period as well as to obtain meeting materials. Requests to comment at the meeting must be received by 5 p.m. Eastern time, Friday, November 4. Written comments may be provided to Mr. Sandler at ken.sandler@gsa.gov until Monday, November 21.

SUPPLEMENTARY INFORMATION: Notice of this meeting is being provided according to the requirements of the Federal Advisory Committee Act, 5 U.S.C. App. 10(a)(2).

The Green Building Advisory Committee will provide advice to GSA as specified in Public Law 110-140, as a mandatory Federal advisory committee. Under this authority, the Committee will advise GSA on the rapid transformation of the Federal building portfolio to sustainable technologies and practices. The Committee will focus primarily on reviewing strategic plans, products and activities of the Office of Federal High-Performance Green Buildings and providing advice regarding how the Office can most effectively accomplish its mission.

Agenda: November 9, 2011.

—Introduction to GSA's Office of Federal High-Performance Green Buildings.

—Strategic partnerships for sustainable Federal buildings.

—Project discussions:

• Energy Research into Practice.

• High-Performance Green Building Demonstration Projects.

• National Research Council “Levers for Change” Report and Expert Meetings.

• Green Building Certification Systems review.

—30 Minute public comment period for individuals pre-registered per instructions above. Each individual will be able to speak for 5 minutes.

—Next steps.

—Adjourn by 4:30 p.m.

Meeting Access: The Committee will convene its meeting at: One Constitution Square, 1275 First Street, NE., Room 201, Washington, DC 20417. Please allow time for a Security check prior to entering the building.

Dated: October 18, 2011.
A. Robert Flaak,
Director, Office of Committee and Regulatory Management, General Services Administration.

[FR Doc. 2011-27347 Filed 10-20-11; 8:45 am]

BILLING CODE 6820-14-P